DEPARTMENT OF COMMERCE

National Oceanic and Atmospheric Administration

[I.D. 060404A]

Marine Mammals; Photography Permit Application No. 946-1747

AGENCY: National Marine Fisheries Service (NMFS), National Oceanic and Atmospheric Administration (NOAA), Commerce.

ACTION: Issuance of permit.

SUMMARY: Notice is hereby given that Ocean Futures Society (Jean-Michel Cousteau, Responsible Party), 325 Chapala Street, Santa Barbara, CA 93101, has been issued a permit to take gray whales (Eschrictius robustus) and killer whales (Orcinus orca) for purposes of commercial/educational photography.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

FOR FURTHER INFORMATION CONTACT: Amy Sloan or Jill Lewandowski, (301)713-2289.

SUPPLEMENTARY INFORMATION: On April 2, 2004, notice was published in the Federal Register (69 FR 17394) that a request for a photography permit to take the above-mentioned species of marine mammals for purposes of commercial/educational photography had been submitted by the above-named individual. The requested permit has been issued under the authority of the Marine Mammal Protection Act of 1972, as amended (16 U.S.C. 1361 et seq.), and the Regulations Governing the Taking and Importing of Marine Mammals (50 CFR part 216).

The permit authorizes the applicant to take 100 gray whales and 50 killer whales by level B harassment during close approaches to obtain above- and below-water still photographs, video footage, and sound recordings of migrating gray whales and encounters of killer whales feeding on gray whales along the Mexican-U.S. border north to the Bering and Chukchi Seas. The purpose of this project is to educate the public on the state of the health of the oceans consistent with the six-part Ocean Futures Society/KQED-PBS partnership film series (Jean-Michel Cousteau's Ocean Adventures series). The permit will expire on May 31, 2006.

Dated: June 4, 2004.
Patrick Opay,
Acting Chief, Permits, Conservation and Education Division, Office of Protected Resources, National Marine Fisheries Service.

[FR Doc. 04-13231 Filed 6-10-04; 8:45 am]

BILLING CODE 3510-22-S